DEPARTMENT OF THE INTERIOR

Bureau of Land Management

[LLWYD04000, L14300000, EU0000, WYW167726]

Notice of Realty Action; Notice of Segregation and Proposed (Non-Competitive) Direct Sale of Public Land, Sweetwater County, WY

AGENCY: Bureau of Land Management, Interior.

ACTION: Notice of Realty Action.

SUMMARY: The Bureau of Land Management (BLM) is considering a parcel of public land totaling 60 acres adjacent to the Jim Bridger Power Plant landfill and located approximately 30 miles east of Rock Springs, Wyoming in Sweetwater County for a direct sale to PacifiCorp under the provisions of the Federal Land Policy and Management Act of 1976 (FLPMA), as amended, for not less than the appraised fair market value (FMV).

DATES: In order to ensure consideration in the environmental analysis for the proposed sale, comments must be received by the BLM by January 27, 2014.

ADDRESSES: Address all comments concerning this notice to Field Manager, BLM Rock Springs Field Office, 280 Highway 191 North, Rock Springs, WY 82901-3447. Comments may also be emailed to BLM_WY_PacifiCorp_Landfill_Expansion@blm.gov.

FOR FURTHER INFORMATION CONTACT: Carol Montgomery, Realty Specialist, at the above address, or phone number: 307-352-0344 for further information. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described public land is being considered for direct sale under the authority of Section 203 and 209 of the FLPMA, as amended (43 U.S.C. 1713 and 1719):

Sixth Principle Meridian

T. 21 N., R. 101 W.,

Sec. 24, NW¼SW¼ and W½NE¼SW¼.

The area described contains 60 acres in Sweetwater County, Wyoming, according to the official plat of the survey of the said land, on file with the BLM.

The proposed direct sale is in conformance with the BLM Green River Resource Management Plan (RMP) approved on August 8, 1997. The parcel is identified for disposal in the RMP Record of Decision, pages 171 and 172 and Map 6. The BLM is offering the parcel to PacifiCorp to expand the adjacent landfill. PacifiCorp's private lands surround three sides of the public lands. This parcel is not needed for any other Federal purpose and is difficult and uneconomical to manage. The regulations found at 43 CFR 2711.3-3(a) permit the BLM to make direct sales of public lands when a competitive sale is not appropriate and the public interest would be best served by a direct sale. The regulations at 43 CFR 2711.3-3(a)(3) permit direct sales if there is a need to recognize an authorized use such as an existing business which could suffer a substantial economic loss if the tract were purchased by other than the authorized user. Conveyance of the identified public land will be subject to valid existing rights and encumbrances of record, including but not limited to, rights-of-way for roads and public utilities. All minerals will be reserved to the United States in the conveyance. In addition to this Notice of Realty Action (NORA), the BLM will publish this notice once a week for 3 weeks in the Rocket Miner Newspaper.

Pursuant to the requirements of 43 CFR 2711.1-2(d), the lands identified above will be segregated from appropriation under the public land laws, including the mining laws, upon publication in the Federal Register of this notice. Upon publication of this NORA, and until completion of the sale, the BLM is no longer accepting land use applications affecting the identified public land, except applications for the amendment of previously filed right-of-way applications or existing authorizations to increase the term of the grants in accordance with 43 CFR 2807.15 and 2886.15. This segregation will terminate upon the issuance of a patent, publication in the Federal Register of a termination of the segregation, or December 14, 2015, whichever comes first unless extended by the BLM State Director in accordance with 43 CFR 2711.1-2(d) prior to the termination date.

The following terms and conditions would appear as reservations to the United States on the conveyance document for this parcel:

1. A right-of-way thereon for ditches or canals constructed by the authority of the United States, Act of August 30, 1890 (43 U.S.C. 945);

2. All minerals, together with the right to prospect for, mine, and remove such deposits from the same under applicable law and such regulations as the Secretary of the Interior may prescribe.

3. Additional terms and conditions that the authorized officer deems appropriate, including an appropriate indemnification clause protecting the United States from claims arising out of the conveyee's use, occupancy, or occupation on the lands should the lands be conveyed out of Federal ownership.

The FMV for the sale parcel will be available for review 60 days prior to the sale date. An environmental assessment (EA) is being prepared for the proposed direct sale. When completed, the EA will be available for review at the address above.

For a period until January 27, 2014, interested parties and the general public may submit in writing any comments concerning the land being considered for sale, including notification of any encumbrances or other claims relating to the identified land, to the Field Manager, BLM Rock Springs Field Office, at the above address. In order to ensure consideration in the EA of the proposed sale, comments must be in writing and post marked or delivered within 45 days of the initial date of publication of this Notice.

Comments transmitted via email will also be accepted and should be sent to BLM_WY_PacifiCorp_Landfill_Expansion@blm.gov. Comments, including names and street addresses of respondents, will be available for public review at the BLM Rock Springs Field Office during regular business hours, except holidays. Individual respondents may request confidentiality. Before including your address, phone number, email address, or other personal identifying information in your comment, be advised that your entire comment—including your personal identifying information—may be made publicly available at any time. While you may ask us in your comment to withhold from public review your personal identifying information, we cannot guarantee that we will be able to do so. The BLM will make available for public review, in their entirety, all comments submitted by businesses or organizations, including comments by individuals in their capacity as an official or representative of a business or organization.

(Authority: 43 CFR 2711.1-2 and 43 CFR 2720.1-1(b))

Donald A. Simpson,
State Director, Wyoming.

[FR Doc. 2013-29672 Filed 12-11-13; 8:45 am]

BILLING CODE 4310-22-P